DEPARTMENT OF COMMERCE

National Oceanic and Atmospheric Administration

[I.D. 053101D]

Southeast Region Gear Identification Requirements

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before August 6, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Robert Sadler, NMFS, 9721 Executive Center Drive N., St. Petersburg, FL 33702 (phone 727-570-5326).

SUPPLEMENTARY INFORMATION:

I. Abstract

Regulations at 50 CFR 622.6 (b) and 640.6 require that each fish or spiny lobster trap or pot be marked with a tag or the vessel permit number, depending on the fishery, and have a buoy attached that meets specified identification requirements. The marking of gear aids law enforcement, helps to ensure that vessels only harvest fish from their own gear, and makes it easier for fishermen to report the use of gear in unauthorized locations.

The regulations at 622.41 require that aquaculture site materials be distinguishable from the natural occurring substrate, depending on the area either through marking or other method. The marking of aquacultured site materials aids determination of the origin of those materials and thereby helps ensure compliance with the regulations.

II. Method of Collection

No information is collected.

III. Data

OMB Number: 0648-0359.

Form Number: None.

Type of Review: Regular submission.

Affected Public: Business or other for-profit organizations, individuals or households.

Estimated Number of Respondents: 1,000.

Estimated Time Per Response: 20 minutes for marking of a Spanish mackerel gillnet float, 7 minutes to tag a trap, and 10 seconds to mark or tag an aquacultured live coral rock.

Estimated Total Annual Burden Hours: 2,192.

Estimated Total Annual Cost to Public: $15,200

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 29, 2001.
Gwellnar Banks,
Management Analyst, Office of the Chief Information Officer.

[FR Doc. 01-14129 Filed 6-4-01; 8:45 am]

BILLING CODE 3510-22-S